DEPARTMENT OF TRANSPORTATION

Federal Aviation Administration

14 CFR Part 39

[Docket No. FAA-2007-28376; Directorate Identifier 2007-NM-108-AD; Amendment 39-15255; AD 2007-23-09]

RIN 2120-AA64

Airworthiness Directives; Boeing Model 767-200, -300, and -300F Series Airplanes

AGENCY: Federal Aviation Administration (FAA), Department of Transportation (DOT).

ACTION: Final rule.

SUMMARY: The FAA is adopting a new airworthiness directive (AD) for certain Boeing Model 767-200, -300, and -300F series airplanes. This AD requires a one-time inspection of each fuel quantity indication system (FQIS) wire harness connector for corrosion of the shield-to-backshell connection, corrosion on the ground jumper, and damage to the ground jumper; a loop resistance test of each FQIS wire harness; and related investigative and corrective actions if necessary. This AD results from reports of corrosion of the out-tank wire harness of the spar connector backshell for the FQIS. We are issuing this AD to detect and correct corrosion of the out-tank wire harness, which could prevent correct grounding of the lightning shield and result in total loss of the electrical grounding between the lightning shield and the airplane structure. This condition, in combination with flammable fuel vapors, could result in fuel tank explosions and consequent loss of the airplane.

DATES: This AD becomes effective December 20, 2007.

The Director of the Federal Register approved the incorporation by reference of a certain publication listed in the AD as of December 20, 2007.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue SE., Washington, DC 20590.

FOR FURTHER INFORMATION CONTACT: Philip Sheridan, Aerospace Engineer, Systems and Equipment Branch, ANM-130S, FAA, Seattle Aircraft Certification Office, 1601 Lind Avenue SW., Renton, Washington 98057-3356; telephone (425) 917-6441; fax (425) 917-6590.

SUPPLEMENTARY INFORMATION:

Discussion

The FAA issued a notice of proposed rulemaking (NPRM) to amend 14 CFR part 39 to include an AD that would apply to certain Boeing Model 767-200, -300, and -300F series airplanes. That NPRM was published in the Federal Register on June 20, 2007 (72 FR 33926). That NPRM proposed to require a one-time inspection of each fuel quantity indication system (FQIS) wire harness connector for corrosion of the shield-to-backshell connection, corrosion on the ground jumper, and damage to the ground jumper; a loop resistance test of each FQIS wire harness; and related investigative and corrective actions if necessary.

Comments

We provided the public the opportunity to participate in the development of this AD. We have considered the comments received.

Requests To Revise Compliance Threshold

Florida West International Airways requests that we revise the compliance threshold from 48 months to 60 months in order to “stay standard with” the compliance time for Boeing special attention service bulletins.

An anonymous private citizen notes that corrosion gets worse over time, so it is appropriate to give a longer compliance threshold to newer aircraft. The commenter suggests maintaining the 48-month threshold for airplanes that have 12 or more years' time-in-service, and revising the compliance threshold to 16 years from airplane delivery for airplanes that have less than 12 years' time-in-service.

We do not agree with the requests to revise the compliance threshold. In Boeing Special Attention Service Bulletin 767-28-0087, dated February 5, 2007, the manufacturer recommended that the inspections begin within 48 months after the release of the service bulletin. Although Boeing might have a standard compliance threshold for special attention service bulletins, that threshold can change based upon the nature of a given unsafe condition.

In addition, the goal of the inspection at the 48-month threshold is to detect and correct any corrosion in the affected area, and to do all applicable actions to prevent it from happening in the future. While it is true that corrosion worsens over time, we consider it inappropriate to allow airplanes to fly for up to 16 years with the potential for corrosion to continue to progress in this area.

In developing an appropriate compliance time for this AD, we considered the serious nature of the unsafe condition as well as the recommendations of the manufacturer, the availability of any necessary repair parts, and the practical aspect of accomplishing the required inspection within an interval of time that corresponds to the normal maintenance schedules of most affected operators. In light of these factors, we have determined that the 48-month initial compliance threshold, as proposed, is appropriate. We do not find it necessary to change the AD in this regard. However, under the provisions of paragraph (g) of the final rule, we will consider requests for adjustments to the compliance time if data are submitted to substantiate that such an adjustment would provide an acceptable level of safety.

Request To Revise Note 1 of the NPRM Regarding Cinch Service Bulletin

Boeing requests that we revise Note 1 of the NPRM and the Relevant Service Information section of the NPRM to remove the words “* * * and replacing the wire harness,” in reference to the procedures in Cinch Service Bulletin CN1156-28-02, Revision C, dated July 31, 2006. Boeing explains that the Cinch service bulletin does not contain information about replacing the wire harness; that information is in Boeing Special Attention Service Bulletin 767-28-0087.

Boeing also requests that we remove the date and revision level from the reference to the Cinch service bulletin. Boeing states that a date is not appropriate because Boeing Special Attention Service Bulletin 767-28-0087 does not specify a date when it refers to the Cinch service bulletin. In addition, Boeing points out that the Cinch service bulletin could be revised by the time the AD is issued, and the information would then be out of date.

We agree with the request to remove the words “* * * and replacing the wire harness,” from Note 1 of the NPRM for the reasons provided.

We also agree with the request to remove the date and revision level from the Cinch service bulletin identified in Note 1 of the NPRM. It is our general practice, as specified by the Office of the Federal Register, to put a date and revision level (if applicable) on all documents incorporated by reference into an AD. However, in this case, the Cinch service bulletin is described only in a note, and therefore it is not incorporated by reference into the AD. Therefore, it is not necessary for us to put a date on documents that we refer to only in a note, though in most cases a date is appropriate or important.

We have revised Note 1 of the final rule to make the requested changes. However, since the Relevant Service Information section of the NPRM does not reappear in the final rule, no other change to the final rule is necessary.

Conclusion

We have carefully reviewed the available data, including the comments received, and determined that air safety and the public interest require adopting the AD with the change described previously. We have determined that this change will neither increase the economic burden on any operator nor increase the scope of the AD.

Costs of Compliance

There are about 482 airplanes of the affected design in the worldwide fleet. The following table provides the estimated costs for U.S. operators to comply with this AD.

Estimated Costs
Action | Work hours | Average labor rate per hour | Cost per airplane | Number of U.S.-registered airplanes | Fleet cost
Detailed inspection | 1 | $80 | $80 | 202 | $16,160
Loop resistance test | 2 to 3 | $80 | $160 to $240 | 202 | $32,320 to $48,480

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-23-09 Boeing: Amendment 39-15255. Docket No. FAA-2007-28376; Directorate Identifier 2007-NM-108-AD.

Effective Date

(a) This AD becomes effective December 20, 2007.

Affected ADs

(b) None.

Applicability

(c) This AD applies to Boeing Model 767-200, -300, and -300F series airplanes, certificated in any category; as identified in Boeing Special Attention Service Bulletin 767-28-0087, dated February 5, 2007.

Unsafe Condition

(d) This AD results from reports of corrosion of the out-tank wire harness of the spar connector backshell for the fuel quantity indication system (FQIS). We are issuing this AD to detect and correct corrosion of the out-tank wire harness, which could prevent correct grounding of the lightning shield and result in total loss of the electrical grounding between the lightning shield and the airplane structure. This condition, in combination with flammable fuel vapors, could result in fuel tank explosions and consequent loss of the airplane.

Compliance

(e) You are responsible for having the actions required by this AD performed within the compliance times specified, unless the actions have already been done.

Inspection, Test, and Related Investigative and Corrective Actions

(f) Within 48 months after the effective date of this AD, do the actions in paragraphs (f)(1) and (f)(2) of this AD, and do all applicable related investigative and corrective actions, by accomplishing all the actions specified in the Accomplishment Instructions of Boeing Special Attention Service Bulletin 767-28-0087, dated February 5, 2007. Do all applicable related investigative and corrective actions before further flight.

(1) A detailed inspection of each FQIS wire harness connector for corrosion of the shield-to-backshell connection, corrosion on the ground jumper, and damage to the ground jumper.

(2) A loop resistance test of each FQIS wire harness.

Note 1: Boeing Special Attention Service Bulletin 767-28-0087, dated February 5, 2007, refers to Cinch Service Bulletin CN1156-28-02 as an additional source of service information for installing a backshell and assembly upgrade kit.

Alternative Methods of Compliance (AMOCs)

(g)(1) The Manager, Seattle Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Boeing Special Attention Service Bulletin 767-28-0087, dated February 5, 2007, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Issued in Renton, Washington, on November 2, 2007.
Ali Bahrami,
Manager, Transport Airplane Directorate, Aircraft Certification Service.

[FR Doc. E7-21993 Filed 11-14-07; 8:45 am]

BILLING CODE 4910-13-P